DEPARTMENT OF TRANSPORTATION

Pipeline and Hazardous Materials Safety Administration

Hazardous Materials: Notice of Applications for Modification of Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before October 3, 2022.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC or at http://regulations.gov.

This notice of receipt of applications for special permit is published in accordance with part 107 of the Federal hazardous materials transportation law (49 U.S.C. 5117(b); 49 CFR 1.53(b)).

Issued in Washington, DC, on September 8, 2022.
Donald P. Burger,
Chief, General Approvals and Permits Branch.

Application No. | Applicant | Regulation(s) affected | Nature of the special permits thereof;
Special Permits Data
9847-M | FIBA Technologies, Inc | 173.302a(b)(2), 173.302a(b)(3), 173.302a(b)(4), 173.302a(b)(5), 180.205(c), 180.205(f), 180.205(g), 180.205(i), 180.209(a), 180.213 | To modify the special permit to change the special permit marking requirements. (modes 1, 2, 3, 4).
11379-M | ZF Passive Safety Systems US Inc | 173.301(h), 173.302a(a) | To modify the special permit to authorize a reduced frequency of cylinder burst testing. (modes 1, 2, 3, 4, 5).
11440-M | Altivia Specialty Chemicals LLC | 172.203(a), 172.301(c), 173.227(c) | To modify the special permit to authorize additional hazardous materials. (modes 1, 2, 3).
11598-M | Metalcraft, Inc. | 173.301(f), 173.304a(a)(2) | To modify the special permit to authorize an additional hazardous material. (modes 1, 3, 4, 5).
11859-M | Mission Systems Orchard Park Inc | 173.301(f), 178.65, 173.302(a)(1), 178.65(a)(2) | To modify the special permit to update the maximum service pressure and minimum test pressure. (modes 1, 2, 4).
14492-M | Tankbouw Rootselaar B.V | 178.274(b), 178.276(a)(2), 178.276(b)(1) | To modify the special permit to explicitly authorize the transportation in commerce of ammonia. (modes 1, 2, 3).
15689-M | Cummins Inc | 172.200, 172.301(c), 177.834(h) | To modify the special permit to authorize an additional hazardous material. (mode 1).
20274-M | Bollore Logistics USA Inc | 172.101(j), 172.300, 172.400, 173.301, 173.302a(a)(1), 173.304a(a)(2) | To modify the special permit to reference an additional French approval. (modes 1, 4).
20529-M | Texas Instruments Incorporated | 173.187 | To modify the special permit to authorize a larger UN 4H2 packaging. (mode 1).
20932-M | Jingjiang Asian-pacific Logistics Equipment Co., Ltd | 178.274(b)(1), 178.276(a)(2)(ii)(B), 178.276(b)(1) | To modify the special permit to authorize alternative pressure relief devices. (modes 1, 2, 3).
21088-M | LogBATT GmbH | 173.24(g) | To modify the special permit to authorize additional types of lithium batteries. (modes 1, 2, 3).
21136-M | Hanwha Cimarron LLC | 173.302(a)(1) | To modify the special permit to amend paragraph 7.d.(5) to only refer to Tests Nos. 4, 5, and 6. of ISO 1496-3. (modes 1, 2, 3).

[FR Doc. 2022-20118 Filed 9-15-22; 8:45 am]

BILLING CODE 4909-60-P